DEPARTMENT OF COMMERCE

National Oceanic and Atmospheric Administration

RIN 0648-XO28

Listing Endangered and Threatened Species: Initiation of a Status Review for the Oregon Coast Evolutionarily Significant Unit of Coho Salmon

AGENCY: National Marine Fisheries Service (NMFS), National Oceanic and Atmospheric Administration (NOAA), Commerce.

ACTION: Reopening of public comment period.

SUMMARY: On April 29, 2009, we, NMFS, announced the initiation of a status review under the Endangered Species Act (ESA) for the Oregon Coast coho salmon (Oncorhynchus kisutch) evolutionarily significant unit (ESU). As part of that proposal, we provided a 90-day comment period, ending on July 28, 2009. We have received requests for an extension of the public comment period. In response to these requests, we are reopening the comment period for the proposed action.

DATES: Information and comments on the subject action must be received by August 18, 2009.

ADDRESSES: You may submit comments, identified by 0648-XO28, by any of the following methods:

• Fax: 503-230-5441

• Mail: Submit written comments and information to Chief, NMFS, Protected Resources Division, 1201 NE Lloyd Boulevard, Suite 1100, Portland, OR 97232. You may hand-deliver written comments to our office during normal business hours at the street address given above.

FOR FURTHER INFORMATION CONTACT: For further information regarding this notice contact Garth Griffin, NMFS, Northwest Region, (503) 231-2005; or Marta Nammack, NMFS, Office of Protected Resources, (301) 713-1401.

SUPPLEMENTARY INFORMATION: On April 29, 2009, we announced the initiation of a status review under the ESA for the Oregon Coast coho salmon ESU. As part of that proposal, we provided a 90-day comment period, ending on July 28, 2009. We have received requests for an extension of the public comment period. In response to these requests, we are reopening the comment period for the proposed action. The public comment period closed on July 28, 2009. We are reopening the public comment period until August 21, 2009, to receive additional local and public information and comments that may be relevant to the status review. Public comments received between the close of the first comment period on July 28, 2009, and the reopening of the comment period July 31, 2009 will also be considered timely.

Authority: 16 U.S.C. 1531 et seq.

Dated: July 27, 2009.
James H. Lecky,
Director, Office of Protected Resources, National Marine Fisheries Service.

[FR Doc. E9-18385 Filed 7-30-09; 8:45 am]

BILLING CODE 3510-22-S